DEPARTMENT OF COMMERCE

National Oceanic and Atmospheric Administration

50 CFR Part 648

[Docket No. 231221-0314; RTID 0648-XE132]

Fisheries of the Northeastern United States; Atlantic Bluefish Fishery; Quota Transfers From New Jersey, Maryland, and Virginia to Massachusetts, Rhode Island, New York, and North Carolina

AGENCY: National Marine Fisheries Service (NMFS), National Oceanic and Atmospheric Administration (NOAA), Commerce.

ACTION: Temporary rule; quota transfers.

SUMMARY: NMFS announces that the States of New Jersey and Maryland and the Commonwealth of Virginia are transferring a portion of their 2024 commercial bluefish quota to the Commonwealth of Massachusetts and the States of Rhode Island, New York, and North Carolina. These adjustments to the 2024 fishing year quotas are necessary to comply with the Atlantic Bluefish Fishery Management Plan quota transfer provisions. This announcement informs the public of the revised 2024 commercial bluefish quotas for New Jersey, Maryland, Virginia, Massachusetts, Rhode Island, New York, and North Carolina.

DATES: Effective July 26, 2024, through December 31, 2024.

FOR FURTHER INFORMATION CONTACT: Laura Deighan, Fishery Management Specialist, (978) 281-9184.

SUPPLEMENTARY INFORMATION: Regulations governing the Atlantic bluefish fishery are found in 50 CFR 648.160 through 648.167. These regulations require annual specification of a commercial quota that is apportioned among the coastal states from Maine through Florida. The process to set the annual commercial quota and the percent allocated to each state is described in § 648.162, and the final 2024 allocations were published on January 2, 2024 (89 FR 34).

The final rule implementing Amendment 1 to the Bluefish Fishery Management Plan (FMP), as published in the Federal Register on July 26, 2000 (65 FR 45844), provided a mechanism for transferring bluefish commercial quota from one state to another. Two or more states, under mutual agreement and with the concurrence of the NMFS Greater Atlantic Regional Administrator, can request approval to transfer or combine bluefish commercial quota under § 648.162(e). The Regional Administrator is required to consider three criteria in the evaluation of requests for quota transfers or combinations: (1) the transfers would not preclude the overall annual quota from being fully harvested; (2) the transfers address an unforeseen variation or contingency in the fishery; and (3) the transfers are consistent with the objectives of the FMP and the Magnuson-Stevens Fishery Conservation and Management Act (Magnuson-Stevens Act). The Regional Administrator has determined these criteria have been met for the transfers approved in this notification.

The donor and recipient states mutually agreed to a multistate transfer divided among the recipient states proportional to their 2024 bluefish allocations (table 1) to ensure that the recipient states would not exceed their 2024 state quotas. Table 1 provides the participating states' revised bluefish quotas for 2024.

Table 1—State Quota Transfer Amounts and Revised State Quotas
| Transfer amount (lb) | Transfer amount (kg) | Revised quota (lb) | Revised quota (kg)
Donor States:
New Jersey | −100,000 | −45,359 | 248,898 | 112,898
Maryland | −25,000 | −11,340 | 36,471 | 16,543
Virginia | −50,000 | −22,680 | 175,380 | 79,551
Recipient States:
Massachusetts | 22,837 | 10,359 | 220,862 | 100,181
Rhode Island | 22,376 | 10,150 | 216,401 | 98,158
New York | 40,243 | 18,254 | 389,190 | 176,534
North Carolina | 89,544 | 40,616 | 865,996 | 392,809

Classification

NMFS issues this action pursuant to section 305(d) of the Magnuson-Stevens Act. This action is required by 50 CFR 648.162(e)(1)(i) through (iii), which was issued pursuant to section 304(b), and is exempted from review under Executive Order 12866.

Authority: 16 U.S.C. 1801 et seq.

Dated: July 24, 2024.
Lindsay Fullenkamp,
Acting Director, Office of Sustainable Fisheries, National Marine Fisheries Service.

[FR Doc. 2024-16639 Filed 7-26-24; 8:45 am]

BILLING CODE 3510-22-P